NATIONAL ARCHIVES AND RECORDS ADMINISTRATION

[NARA-2020-060]

Advisory Committee on the Records of Congress; Meeting

AGENCY: National Archives and Records Administration (NARA).

ACTION: Notice of Federal Advisory Committee meeting.

SUMMARY: We are announcing an upcoming meeting of the Advisory Committee on the Records of Congress. The committee advises NARA on the full range of programs, policies, and plans for the Center for Legislative Archives in the Office of Legislative Archives, Presidential Libraries, and Museum Services (LPM).

DATES: The meeting will be on September 24, 2020, from 1:00 p.m. to 3:00 p.m.

ADDRESSES: This meeting will be held virtually.

FOR FURTHER INFORMATION CONTACT: Sharon Shaver, Congressional Relations Specialist at the Center for Legislative Archives, by email at Sharon.shaver@nara.gov or at 202.357.6802. Please use the email contact method during the current COVID remote work situation. Contact the event host, Amy Camilleri at the Secretary of the Senate Office, by email at amy_camilleri@sec.senate.gov.

SUPPLEMENTARY INFORMATION: The meeting is open to the public in accordance with the Federal Advisory Committee Act (5 U.S.C. app 2) and implementing regulations.

Agenda

(1) Chair's opening remarks—Secretary of the U.S. Senate

(2) Recognition of co-chair—Clerk of the U.S. House of Representatives

(3) Recognition of the Archivist of the United States

(4) Approval of the minutes of the last meeting

(5) Senate Archivist's report

(6) House Archivist's report

(7) Center for Legislative Archives update

(8) Other current issues and new business

Procedures: You must register in advance through the Webex link natehttps://se.webex.com/senate/onstage/g.php?MTID=e518b348d45713914a701baaa332bacf4 if you wish to attend.

Maureen MacDonald,
Designated Committee Management Officer.

[FR Doc. 2020-19814 Filed 9-8-20; 8:45 am]

BILLING CODE 7515-01-P